DEPARTMENT OF ENERGY

Federal Energy Regulatory Commission

[Docket No. ER07-312-000]

Dogwood Energy, LLC.; Notice Shortening Comment Period

January 10, 2007.

On January 8, 2007, the Commission issued a Notice of Issuance in the above-docketed proceeding. The notice established a period for filing protests or motions to intervene in response to Dogwood Energy, LLC's requests for blanket approval under 18 CFR part 34 of all future issuances of securities and assumptions of liability by Dogwood.

By this notice, the date for filing motions to intervene or protests is shortened to and including January 24, 2007.

Magalie R. Salas,
Secretary.

[FR Doc. E7-565 Filed 1-17-07; 8:45 am]

BILLING CODE 6717-01-P